NATIONAL TRANSPORTATION SAFETY BOARD

Sunshine Act Meeting

Time and Date: 9:30 a.m. Tuesday, July 25, 2000.

Place: NTSB Board Room, 429 L'Enfant Plaza, S.W., Washington, D.C. 20594.

Status: Open to the Public.

Matters to be Considered:

7047B Aviation Accident Report: Crash During Landing, Federal Express, Inc., Flight 14, McDonnell Douglas MD-11, N611FE, Newark International Airport, Newark, New Jersey, July 31, 1997.

News Media Contact: Telephone: (202) 314-6100 Individuals requesting specific accommodation should contact Mrs. Barbara Bush at (202) 314-6220 by Friday, July 21, 2000.

FOR FURTHER INFORMATION CONTACT: Rhonda Underwood (202) 314-6065.

July 14, 2000.
Rhonda Underwood,
Federal Register Liaison Officer.

[FR Doc. 00-18308 Filed 7-14-00; 4:13 pm]

BILLING CODE 7533-01-M